DEPARTMENT OF COMMERCE

Office of the Under Secretary for Economic Affairs

Advisory Committee on Data for Evidence Building

AGENCY: Office of the Under Secretary for Economic Affairs, U.S. Department of Commerce (DOC).

ACTION: Notice of establishment of the Advisory Committee on Data for Evidence Building (Advisory Committee) and solicitation of nominations for non-Federal membership.

SUMMARY: Notice is hereby given that the Advisory Committee on Data for Evidence Building will be established and will terminate not later than two years after the date of the first meeting. The Advisory Committee will review, analyze, and make recommendations on how to promote the use of Federal data for evidence building. This notice also requests nominations for non-Federal members of the Advisory Committee to ensure a wide range of member candidates and a balanced Advisory Committee.

DATES: Nominations must be received on or before midnight EST on December 4, 2019. The Department encourages nominations submitted any time before the deadline. After that date, the Department will continue to accept nominations under this notice to fill any vacancies that may arise.

ADDRESSES: All nomination materials should be emailed to Evidence@bea.gov.

FOR FURTHER INFORMATION CONTACT: Lucas Hitt at 4600 Silver Hill Rd., BE-64, Department of Commerce, Washington, DC 20233; phone (301) 278-9223; email: Lucas.Hitt@bea.gov.

SUPPLEMENTARY INFORMATION: The Federal Data Strategy offers a ten-year vision for how the Federal Government will accelerate the use of data to support the foundations of democracy, deliver on mission, serve the public, and steward resources while protecting security, privacy, and confidentiality. The Strategy supports a coordinated approach to Federal data stewardship by establishing more consistent and integrated data infrastructure and data practices in order to more fully leverage the value of data as a strategic asset.

In keeping with the Strategy, the Foundations for Evidence-Based Policymaking Act of 2018 (the Act), § 101(a)(2) (5 U.S.C. 315(a)) directed the OMB Director, or head of an agency designated by the Director, to establish an Advisory Committee on Data for Evidence Building (Advisory Committee). Pursuant to Section 9(a)(1) of the Federal Advisory Committee Act (FACA) (5 U.S.C., App.), and in accordance with Title 41, Code of Federal Regulations, § 102-3.50(a), notice is hereby given that the Advisory Committee will be established and will terminate not later than two years after the date of the first meeting.

Pursuant to authority granted in the Office of Management and Budget (OMB) letter dated September 3, 2019, the Advisory Committee will be administered and managed by the Department of Commerce Office of the Under Secretary for Economic Affairs (OUSEA).

The Advisory Committee will review, analyze, and make recommendations on how to promote the use of Federal data for evidence building. Duties include:

(1) Assisting the OMB Director in carrying out the duties outlined under part D of subchapter III of chapter 35 of title 44 (which concerns access to data for evidence);

(2) evaluating and providing recommendations to the OMB Director on how to facilitate data sharing, enable data linkage, and develop privacy enhancing techniques; and

(3) reviewing the coordination of data sharing or availability for evidence building across all agencies.

The Advisory Committee will submit to the OMB Director, and make publicly available, an annual report on its activities and findings.

The establishment of the Advisory Committee is necessary for the Office of Management and Budget to carry out its mission and is in the public interest. The Advisory Committee will operate in accordance with the provisions of the Foundations for Evidence-Based Policymaking Act of 2018 and the FACA and the rules and regulations issued in implementation of the FACA.

The Chief Statistician of the United States shall serve as the Chair of the Advisory Committee. Members of the Advisory Committee from Federal agencies will be sourced separately from this Notice and will be appointed by the Director of OMB. These Federal members are as follows: One agency Chief Information Officer; one agency Chief Privacy Officer; one agency Chief Performance Officer; three members who are agency Chief Data Officers; three members who are agency Evaluation Officers; three members who are agency Statistical Officials who are members of the Interagency Council for Statistical Policy established under section 3504(e)(8) of title 44.

The U.S. Department of Commerce Office of the Under Secretary for Economic Affairs is hereby soliciting nominations for the non-Federal members of the Advisory Committee. In addition to the members listed above, the Director of OMB will appoint at least 10 committee members from non-Federal sources. As required by the Act, these members will be sourced from State and local governments and nongovernmental stakeholders with expertise in government data policy, privacy, technology, transparency policy, evaluation and research methodologies, and other relevant subjects, of whom—

(A) at least one shall have expertise in transparency policy;

(B) at least one shall have expertise in privacy policy;

(C) at least one shall have expertise in statistical data use;

(D) at least one shall have expertise in information management;

(E) at least one shall have expertise in information technology; and

(F) at least one shall be from the research and evaluation community.

Committee members may serve for a term of 2 years or less.

The Advisory Committee is expected to meet a minimum of three times per year, with the possibility of additional meetings as the Chair may determine.

Subcommittees may be formed to address specific issues. Subcommittees will report directly to the Advisory Committee.

Because non-Federal Advisory Committee members will serve as Special Government Employees, they will be subject to certain ethical restrictions and required to submit certain information in connection with the appointment process. An ethics review is conducted for each selected nominee; therefore, individuals selected for nomination will be required to provide detailed information concerning such matters as financial holdings, consultancies, and research grants or contracts to permit evaluation of possible sources of conflict of interest.

Process and Deadline for Submitting Nominations: Non-Federal individuals can self-nominate or be nominated by any individual or organization. To be considered for the Advisory Committee, nominators should submit the following information:

(1) Contact Information for the nominee, consisting of:

a. Name

b. Title

c. Organization or Affiliation

d. Address

e. City, State, Zip

f. Telephone number

g. Email address

(2) Statement of interest limited to 250 words on why the nominee wants to serve on the Advisory Committee and the unique perspectives and experiences the nominee would bring to the Advisory Committee.

(3) Resumé limited to 3 pages describing professional and academic expertise, experience, and knowledge, including any relevant experience serving on advisory committees and advisory panels, past and present;

(4) An affirmative statement that the nominee is not a Federally registered lobbyist, and that the nominee understands that, if appointed, the nominee will not be allowed to continue to serve as an Advisory Committee member if the nominee becomes a Federally registered lobbyist; and

(5) Optional letters of support. Please do not send company, trade association, organization brochures, or any other promotional information. Letters submitted should total five pages or less and must be formatted in Microsoft Word or PDF. Should more information be needed, OUSEA staff will contact the nominee, obtain information from the nominee's past affiliations, or obtain information from publicly available sources, such as the internet. Nominations may be emailed to Evidence@bea.gov. Nominations must be received on or before midnight EST on December 4, 2019. After that date, the Department will continue to accept nominations under this notice to fill any vacancies that may arise. The Department encourages nominations submitted any time before the deadline. The Department is not responsible for any technical difficulties submitting a nomination form.

A joint OMB and Office of the Under Secretary for Economic Affairs selection team will review the nomination packages to identify a set of potential members that possesses the balance of qualifications required by law, and provide a vetted slate of proposed candidates for appointment by the OMB Director.

The selection team will make recommendations regarding membership based on criteria including: (1) Professional or academic expertise, experience, and knowledge; (2) stakeholder representation; (3) availability and willingness to serve; and (4) relevant experience in working in committees and advisory panels.

Nominees selected for appointment to the Advisory Committee will be notified by return email and by a letter of appointment.

Nomination packages submitted under this Federal Register Notice will be considered if vacancies occur over the two years that the Advisory Committee will be active.

Dated: October 31, 2019.
Brian C. Moyer,
Director, Bureau of Economic Analysis, Performing the Non-Exclusive Functions and Duties of the Under Secretary for Economic Affairs.

[FR Doc. 2019-24172 Filed 11-5-19; 8:45 am]

BILLING CODE 3510-MN-P